DEPARTMENT OF EDUCATION

Privacy Act of 1974; System of Records—Study of Enhanced College Advising in Upward Bound

AGENCY: Institute of Education Sciences, Department of Education.

ACTION: Notice of a new system of records.

SUMMARY: In accordance with the Privacy Act of 1974, as amended (Privacy Act), the Department of Education (Department) publishes this notice of a new system of records entitled “Study of Enhanced College Advising in Upward Bound” (18-13-36). The National Center for Education Evaluation and Regional Assistance at the Department's Institute of Education Sciences awarded a contract in September 2012 to Abt Associates Inc. to conduct an impact evaluation of a strategy to enhance college advising within Upward Bound—consisting of a professional development program for Upward Bound staff that includes a set of tools and resources for staff and students. The system of records will contain records on approximately 136,000 Upward Bound students and 200 Upward Bound project staff and will be used to conduct the study.

DATES: Submit your comments on this proposed new system of records on or before October 15, 2014.

The Department filed a report describing the new system of records covered by this notice with the Chair of the Senate Committee on Homeland Security and Governmental Affairs, the Chair of the House Committee on Oversight and Government Reform, and the Administrator of the Office of Information and Regulatory Affairs, Office of Management and Budget (OMB) on September 3, 2014. This system of records will become effective at the later date of: (1) The expiration of the 40-day period for OMB review on October 13, 2014, unless OMB waives 10 days of the 40-day review period for compelling reasons shown by the Department, or (2) October 15, 2014, unless the system of records needs to be changed as a result of public comment or OMB review.

ADDRESSES: Address all comments about the proposed system of records to Dr. Audrey Pendleton, Associate Commissioner, Evaluation Division, National Center for Education Evaluation and Regional Assistance, Institute of Education Sciences, U.S. Department of Education, 555 New Jersey Avenue NW., Room 502D, Washington, DC 20208-0001. Telephone: (202) 208-7078. If you prefer to send your comments through the Internet, use the following address: comments@ed.gov.

You must include the phrase “Study of Enhanced College Advising in Upward Bound” in the subject line of the electronic message.

During and after the comment period, you may inspect all public comments about this notice at the Department in Room 502D, 555 New Jersey Avenue NW., Washington, DC, between the hours of 8:00 a.m. and 4:30 p.m., Washington, DC time, Monday through Friday of each week except Federal holidays.

Assistance to Individuals With Disabilities in Reviewing the Rulemaking Record

On request we will provide an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Dr. Marsha Silverberg. Telephone: (202) 208-7178. If you use a telecommunications device for the deaf (TDD) or a text telephone (TTY), you may call the Federal Relay Service (FRS), toll free, at 1-800-877-8339.

Individuals with disabilities can obtain this document in an accessible format (e.g., braille, large print, audiotape, or compact disc) on request to the contact person listed in this section.

SUPPLEMENTARY INFORMATION:

Introduction

The Privacy Act (5 U.S.C. 552a) requires the Department to publish in the Federal Register this notice of a new system of records maintained by the Department. The Department's regulations implementing the Privacy Act are contained in part 5b of title 34 of the Code of Federal Regulations (CFR).

The Privacy Act applies to any record about an individual that is maintained in a system of records from which individually identifying information is retrieved by a unique identifier associated with each individual, such as a name or Social Security Number (SSN). The information about each individual is called a “record,” and the system, whether manual or computer based, is called a “system of records.”

The Privacy Act requires each agency to publish a notice of a system of records in the Federal Register and to prepare and send a report to OMB whenever the agency publishes a new system of records or makes a significant change to an established system of records. Each agency is also required to send copies of the report to the Chair of the Senate Committee on Homeland Security and Governmental Affairs and the Chair of the House Committee on Oversight and Government Reform. These reports are included to permit an evaluation of the probable effect of the proposal on the privacy rights of individuals.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: September 9, 2014.
Sue Betka,
Deputy Director for Administration and Policy, Institute of Education Sciences.

For the reasons discussed in the preamble, the Director of the Institute of Education Sciences, U.S. Department of Education (Department) publishes a notice of a new system of records to read as follows:

SYSTEM NUMBER: 18-13-36

SYSTEM NAME:

Study of Enhanced College Advising in Upward Bound.

SECURITY CLASSIFICATION:

None.

SYSTEM LOCATIONS:

(1) Evaluation Division, National Center for Education Evaluation and Regional Assistance, Institute of Education Sciences (IES), U.S. Department of Education, 555 New Jersey Avenue NW., Room 502D, Washington, DC 20208-0001.

(2) Abt Associates, 55 Wheeler Street, Cambridge, Massachusetts 02138-1168 (contractor).

(3) Decision Information Resources, Inc., 2600 Southwest Freeway, Suite 900, Houston, Texas 77098-4610 (subcontractor).

(4) Survey Research Management, 5777 Central Ave., Suite 225, Boulder, Colorado 80301-2853 (subcontractor).

CATEGORIES OF INDIVIDUALS COVERED BY THE SYSTEM:

The system of records will contain records on approximately 136,000 Upward Bound students and 200 Upward Bound project staff.

CATEGORIES OF RECORDS IN THE SYSTEM:

The system of records will include information about the 200 project staff and 6,000 students who are participating in the study, as well as a group of students who previously participated in Upward Bound (high school juniors in school years 2005-2006 through 2010-2011) and for whom information was collected and is maintained through the Department's annual performance reporting process. The project staff-level information will include, but will not necessarily be limited to: Names; educational background (college major, highest degree, and professional development activities); and college advising activities. The student-level information will include, but will not necessarily be limited to: Student names; student SSNs; dates of birth; demographic information such as race, ethnicity, and gender; college entrance exam scores; educational experiences (GPA, AP/IB course-taking); and college application and enrollment plans and behavior, including application and receipt of financial aid.

AUTHORITY FOR MAINTENANCE OF THE SYSTEM:

The Study of Enhanced College Advising in Upward Bound is authorized under section 403(h) of the 2008 Higher Education Opportunity Act (HEOA), Public Law 110-315 (20 U.S.C. 1070a-18), which requires the Department to conduct a rigorous study of a promising practice that has the potential to improve key outcomes for Upward Bound participants. Section 403(h)(3) of the HEOA provides that “[f]or the purpose of improving the effectiveness of the programs and projects assisted under this chapter the Secretary shall make grants to, or enter into contracts with, institutions of higher education and other public and private institutions and organizations to rigorously evaluate the effectiveness of the programs and projects assisted under this chapter . . . .”

Further, part D, section 171(b)(2) of the Education Sciences Reform Act of 2002, Public Law 107-279 (20 U.S.C. 9561(b)(2)) authorizes the Institute of Education Sciences (IES) to “conduct evaluations of Federal education programs administered by the Secretary (and as time and resources allow, other education programs) to determine the impact of such programs . . . .”

PURPOSE(S):

The information contained in the records maintained in this system will be used to conduct an evaluation of the effectiveness of a professional development strategy for Upward Bound staff (with related advising tools and resources for staff and students).

The study will address the following three research questions: (1) To what extent do the professional development package and tools have an effect—above and beyond the services Upward Bound grantees already provide—on important student outcomes? (2) How fully was the strategy implemented (e.g., in terms of staff participation in training and student use of the tools) and to what extent did it lead to differences in the Upward Bound college advising provided? (3) Is there variation in the impacts of the enhanced college advising strategy and to what extent is the variation associated with Upward Bound project features or characteristics of participating students? Are differences in the implementation of the enhanced college advising strategy associated with differences in impacts?

Information about students who participated previously in Upward Bound will be analyzed to identify potential points in the college advising and enrollment process where improvements can be made using the professional development and tools.

ROUTINE USES OF RECORDS MAINTAINED IN THE SYSTEM, INCLUDING CATEGORIES OF USERS AND THE PURPOSES OF SUCH USES:

The Department may disclose information contained in a record in this system of records under the routine uses listed here without the consent of the individual if the disclosure is compatible with the purposes for which the record was collected. The Department may make these disclosures on a case-by-case basis, or, if the Department has complied with the computer matching requirements of the Privacy Act of 1974, as amended (Privacy Act) (5 U.S.C. 552a), under a computer matching agreement. Any disclosure of individually identifiable information from a record in this system must also comply with the requirements of section 183 of the Education Sciences Reform Act (ESRA) (20 U.S.C. 9573), which provides confidentiality standards that apply to all collection, reporting, and publication of data by IES.

1. Research Disclosure. The Director of IES may license confidential information from this system of records to qualified external researchers solely for the purpose of carrying out specific research that is compatible with the purpose(s) of this system of records. The researcher must maintain, under the Privacy Act and the ESRA, safeguards with respect to such records. In addition, if confidential information from this system of records constitutes personally identifiable information from a student's education record that is protected by the Family Educational Rights and Privacy Act (FERPA) (20 U.S.C. 1232g), the researcher also must comply with the requirements in the applicable FERPA exception to consent.

2. Research Disclosure to Obtain Necessary Records to Conduct the Study. Under data sharing agreements that will protect student privacy and confidentiality, the Department may disclose the identity of students participating in the study to the study's partners (the College Board, the ACT, and the National Student Clearinghouse) in order to obtain information on students' college entrance exams or their enrollment and persistence in college as important outcomes to be examined in the study.

3. Contract Disclosure. If the Department contracts with an entity to perform any function that requires disclosing records in this system to the contractor's employees, the Department may disclose the records to those employees who have received the appropriate level of security clearance from the Department. Before entering into such a contract, the Department will require the contractor to establish and maintain the safeguards required under the Privacy Act (5 U.S.C. 552a(m)) with respect to the records in the system.

DISCLOSURE TO CONSUMER REPORTING AGENCIES:

Not applicable to this system of records.

POLICIES AND PRACTICES FOR STORING, RETRIEVING, ACCESSING, RETAINING, AND DISPOSING OF RECORDS IN THE SYSTEM:

STORAGE:

The Department maintains records on CD-ROM, and the contractor (Abt Associates, Inc.) and subcontractors (Decision Information Resources, Inc. and Survey Research Management) maintain data for this system on computers and in hard copy.

RETRIEVABILITY:

Records in this system are indexed and retrieved by a number assigned to each individual that is cross-referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a need-to-know basis and controls individual users' ability to access and alter records within the system.

The contractor and subcontractor will establish a similar set of procedures at their sites to ensure confidentiality of data. The contractor's and subcontractor's systems are required to ensure that information identifying individuals is in files physically separated from other research data. The contractor and subcontractor will maintain security of the complete set of all master data files and documentation. Access to individually identifying data will be strictly controlled. At each site, all hardcopy data will be kept in locked file cabinets during non-working hours and work on hardcopy data will take place in a single room, except for data entry.

Physical security of electronic data will also be maintained. Security features that protect project data include: Password-protected accounts that authorize users to use the contractor's system but to access only specific network directories and network software; user rights and directory and file attributes that limit those who can use particular directories and files and determine how they can use them; and additional security features that the network administrators will establish for projects as needed. Employees of the Department, as well as employees of its contractor and subcontractors who “maintain” (collect, maintain, use, or disseminate) data in this system must comply with the requirements of the Privacy Act and the confidentiality standards in section 183 of the ESRA (20 U.S.C. 9573).

RETENTION AND DISPOSAL:

These records are covered by a draft records schedule under development, ED 231 Research and Statistics Records. This schedule shall be submitted to the National Archives and Records Administration (NARA) for review and approval when complete. Until such time as it is approved by NARA, no records shall be destroyed.

SYSTEM MANAGER AND ADDRESS:

Associate Commissioner, Evaluation Division, National Center for Education Evaluation and Regional Assistance, Institute of Education Sciences, U.S. Department of Education, 555 New Jersey Avenue NW., Room 502D, Washington, DC 20208-0001.

NOTIFICATION PROCEDURE:

If you wish to determine whether a record exists regarding you in the system of records, contact the system manager. Your request must meet the requirements of the Department's Privacy Act regulations at 34 CFR 5b.5, including proof of identity.

RECORD ACCESS PROCEDURE:

If you wish to gain access to a record about you in this system of records, contact the system manager. Your request must meet the requirements of the Department's Privacy Act regulations at 34 CFR 5b.5, including proof of identity.

CONTESTING RECORD PROCEDURE:

If you wish to contest the content of a record regarding you in the system of records, contact the system manager. Your request must meet the requirements of the Department's Privacy Act regulations at 34 CFR 5b.7, including specification of the particular record you are seeking to have changed, the written justification for making such a change, and proof of identity.

RECORD SOURCE CATEGORIES:

This system contains records on project staff and students participating in the Study of Enhanced College Advising in Upward Bound, as well as a group of students who previously participated in Upward Bound (high school juniors in school years 2005-2006 through 2010-2011) and for whom information was collected and is maintained through the Department's annual performance reporting process. Data will be obtained through study data collection directly from staff and students, administrative records maintained by Upward Bound project staff including Annual Performance Reports submitted to the Department, data extracts from the Department's Office of Federal Student Aid, and data extracts from the College Board, the ACT, and the National Student Clearinghouse under data sharing agreements.

EXEMPTIONS CLAIMED FOR THE SYSTEM:

None.

[FR Doc. 2014-21850 Filed 9-12-14; 8:45 am]

BILLING CODE 4000-01-P